FEDERAL COMMUNICATIONS COMMISSION

[OMB 3060-0816]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before January 13, 2020. If you anticipate that you will be submitting comments but find it difficult to do so within the time period allowed by this notice, you should advise the contacts below as soon as possible.

ADDRESSES: Direct all PRA comments to Cathy Williams, FCC, via email PRA@fcc.gov and to Cathy.Williams@fcc.gov.

FOR FURTHER INFORMATION CONTACT: For additional information, contact Cathy Williams at (202) 418-2918.

SUPPLEMENTARY INFORMATION: OMB Control Number: 3060-0816.

Title: Local Telephone Competition and Broadband Reporting, Report and Order, FCC Form 477, (WC Docket No. 19-195, WC Docket No, 11-10, FCC 19-79).

Form Number: FCC Form 477.

Type of Review: Revision of a currently approved collection.

Respondents: Business or other for-profit entities; not-for-profit institutions; and state, local, or tribal governments.

Number of Respondents and Responses: 2,515 respondents; 5,030 responses.

Estimated Time per Response: 387 hours (average).

Frequency of Response: Semi-annual reporting requirement.

Obligation to Respond: Required to obtain or retain benefits. Statutory authority for this information collection is contained in 47 U.S.C. 4(i), 201, 218-220, 251-252, 271, 303(r), 332, and 403 of the Communications Act of 1934, as amended, and in section 706 of the Telecommunications Act of 1996, as amended, codified in section 1302 of the Broadband Data Improvement Act, 47 U.S.C. 1302.

Total Annual Burden: 1,946,610 hours.

Total Annual Cost: No cost.

Privacy Act Impact Assessment: No impact(s).

Nature and Extent of Confidentiality: The Commission will no longer treat as confidential service providers' minimum advertised or expected speed data for mobile broadband services. Thus, provider-specific coverage data will be publicly released for all subsequent Form 477 filings. This action is necessary to ensure that consumers can easily use the information that is disclosed to the public, including minimum advertised or expected speed data, because such information is only beneficial if consumers know where service coverage is available.

Needs and Uses: After the 60-day comment period expires, the Commission will submit the revised information collection to the Office of Management and Budget (OMB) to obtain a full three-year clearance.

The revisions to the information collection are necessitated by a Report and Order in WC Docket Nos. 19-195 and 11-10, FCC 19-79, adopted on August 1, 2019. In this Order, the Commission makes targeted changes to the existing Form 477 data collection to reduce reporting burdens for all filers and incorporate new technologies.

The Order adopts the 5G-NR (New Radio) technology standards developed by the 3rd Generation Partnership Project (3GPP) with Release 15 and requires providers to submit 5G deployment data that meet the specifications of Release 15 (or any successor release that may be adopted by the Commission's Bureaus). The Order also requires mobile providers to submit broadband and voice subscriber data at the census-tract level based on the subscriber's place of primary use for postpaid subscribers and based on the subscriber's telephone number for prepaid and resold subscribers. These changes are necessary because the deployment data collected on Form 477 are no longer sufficient for targeting universal service funds. The actions to improve the Form 477 data collection are designed to increase the usefulness of the information to the Commission, Congress, the industry, and the public.

The Order reduces the burden on broadband providers by removing the requirement that facilities-based providers submit separate coverage maps depicting their broadband network coverage areas for each transmission technology and each frequency band. It also modifies the requirement that mobile broadband providers report coverage information for each technology deployed in their networks by reducing the number of categories from nine to four. The Order eliminates the requirement that facilities-based providers submit a list of census tracts in which the provider advertises its mobile wireless broadband service and in which the service is available to actual and potential subscribers. Finally, the Order removes the requirement that fixed providers offering business/enterprise/government services to report the maximum downstream and upstream contractual or guaranteed data throughput rate (committed information rate) available in each reported census block.

As part of these revisions to the Form 477 data collection, the Commission is requesting approval of certain changes to the form and the related instructions. These changes are necessary to streamline the filing process, implement revisions to the data collection, eliminate burdensome filings requirements, and increase the usefulness of the information to the Commission, Congress, the industry, and the public.

Federal Communications Commission.
Marlene Dortch,
Secretary.

[FR Doc. 2019-24660 Filed 11-13-19; 8:45 am]

BILLING CODE 6712-01-P